DEPARTMENT OF THE INTERIOR

National Park Service

[NPS-WASO-NAGPRA-NPS0036574; PPWOCRADN0-PCU00RP14.R50000]

Notice of Intent To Repatriate Cultural Items: U.S. Department of the Interior, Fish and Wildlife Service, Southwest Region, Albuquerque, NM

AGENCY: National Park Service, Interior.

ACTION: Notice.

SUMMARY: In accordance with the Native American Graves Protection and Repatriation Act (NAGPRA), the U.S Department of the Interior, Fish and Wildlife Service (USFWS) intends to repatriate a certain cultural item that meets the definition of a sacred object and that has a cultural affiliation with the Indian Tribes or Native Hawaiian organizations in this notice. The cultural item was removed from Cherokee County, OK.

DATES: Repatriation of the cultural item in this notice may occur on or after October 19, 2023.

ADDRESSES: Victoria Owens, U.S Fish and Wildlife Service, P.O. Box 329, Albuquerque, NM 87103, telephone (505) 248-7897, email victoria_owens@fws.gov.

SUPPLEMENTARY INFORMATION: This notice is published as part of the National Park Service's administrative responsibilities under NAGPRA. The determinations in this notice are the sole responsibility of the USFWS. The National Park Service is not responsible for the determinations in this notice. Additional information on the determinations in this notice, including the results of consultation, can be found in the summary or related records held by the USFWS.

Description

One cultural item was removed from Tahlequah, Cherokee County, OK. Dennis R. “Siera” McPherron received the cultural item from William Smith, who was head of the Central Cherokee Medicine Council in the late 1980s. When the cultural item was seized by the USFWS in 2016, Mr. McPherron's traveling companion was Mr. Henry Vann, who is William Smith's nephew and a member of the United Keetoowah Band of Cherokee Indians in Oklahoma. The sacred item is a Golden Eagle feather.

Cultural Affiliation

The cultural item in this notice is connected to one or more identifiable earlier groups, tribes, peoples, or cultures. There is a relationship of shared group identity between the identifiable earlier groups, tribes, peoples, or cultures and one or more Indian Tribes or Native Hawaiian organizations. The following types of information were used to reasonably trace the relationship: oral traditional and expert opinion.

Determinations

Pursuant to NAGPRA and its implementing regulations, and after consultation with the appropriate Indian Tribes and Native Hawaiian organizations, the USFWS has determined that:

• The one cultural item described above is a specific ceremonial object needed by traditional Native American religious leaders for the practice of traditional Native American religions by their present-day adherents.

• There is a relationship of shared group identity that can be reasonably traced between the cultural items and the United Keetoowah Band of Cherokee Indians in Oklahoma.

Requests for Repatriation

Additional, written requests for repatriation of the cultural item in this notice must be sent to the Responsible Official identified in ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural item in this notice to a requestor may occur on or after October 19, 2023. If competing requests for repatriation are received, the USFWS must determine the most appropriate requestor prior to repatriation. Requests for joint repatriation of the cultural item are considered a single request and not competing requests. The USFWS is responsible for sending a copy of this notice to the Indian Tribe identified in this notice.

Authority: Native American Graves Protection and Repatriation Act, 25 U.S.C. 3003, and the implementing regulations, 43 CFR 10.8, § 10.10, and § 10.14.

Dated: September 11, 2023.
Melanie O'Brien,
Manager, National NAGPRA Program.

[FR Doc. 2023-20190 Filed 9-18-23; 8:45 am]

BILLING CODE 4312-52-P